NATIONAL SCIENCE FOUNDATION

Sunshine Act Meeting

Agency Holding Meeting: National Science Board, Committee on Strategy and Budget (CSB).

Date and Time: August 1, 2005, 11 a.m.-12 noon (ET).

Place: National Science Foundation, 4201 Wilson Boulevard, Arlington, VA 22230.

Status: This meeting will be closed to the public.

Matters to be Considered:

Monday, August 1, 2005—Closed Session

Closed Session (11 a.m. to 12 Noon)

Status of FY 2007 Budget Submission to OMB.

FOR FURTHER INFORMATION CONTACT: Dr. Michael P. Crosby, Executive Officer and NSB Office Director, (703) 292-7000, http://www.nsf.gov/nsb.

Michael P. Crosby,
Executive Officer and NSB Office Director.

[FR Doc. 05-14822 Filed 7-22-05; 12:19 pm]

BILLING CODE 7555-01-P